DEPARTMENT OF DEFENSE

Office of the Secretary

[Transmittal No. 20-83]

Arms Sales Notification

AGENCY: Defense Security Cooperation Agency, Department of Defense (DoD).

ACTION: Arms sales notice.

SUMMARY: The Department of Defense is publishing the unclassified text of an arms sales notification.

FOR FURTHER INFORMATION CONTACT: Karma Job at karma.d.job.civ@mail.mil or (703) 697-8976.

SUPPLEMENTARY INFORMATION: This 36(b)(1) arms sales notification is published to fulfill the requirements of section 155 of Public Law 104-164 dated July 21, 1996. The following is a copy of a letter to the Speaker of the House of Representatives, Transmittal 20-83 with attached Policy Justification and Sensitivity of Technology.

Dated: December 17, 2020.
Kayyonne T. Marston,
Alternate OSD Federal Register Liaison Officer, Department of Defense.

BILLING CODE 5001-06-P

BILLING CODE 5001-06-C

Transmittal No. 20-83

Notice of Proposed Issuance of Letter of Offer Pursuant to Section 36(b)(1) of the Arms Export Control Act, as Amended

(i) Prospective Purchaser: Government of Romania

(ii) Total Estimated Value:

Major Defense Equipment * | $ 12.1 million
Other | $ 163.3 million
Total | $175.4 million

(iii) Description and Quantity or Quantities of Articles or Services under Consideration for Purchase: The Government of Romania has requested to buy upgrades to the avionics, software, communication equipment, navigational aids, and cockpit of its Mid-Life Update (MLU) Block 15 F-16 aircraft fleet along with additional logistics support.

Major Defense Equipment (MDE):

Eight (8) LN-260 Global Positioning System (GPS)

Nineteen (19) Multifunctional Information Distribution System Joint Tactical Radio Systems (MIDS JTRS)

Non-MDE: Also included is AN/APX-126 Advanced Identification Friend or Foe (IFF); ARC-210 Radios; KIV-78 Cryptographic Appliques; other secure communications, navigation, and encryption devices; Joint Mission Planning System (JMPS) software; aircraft minor modification, integration and test support, support equipment, software and software support; personnel training; spare and repair parts; publications and technical documentation; U.S. Government and contractor engineering, technical and logistical support services; and other related elements of logistical and program support.

(iv) Military Department: Air Force (RO-D-QAN); Navy (RO-P-LBF)

(v) Prior Related Cases, if any: RO-D-QAH

(vi) Sales Commission, Fee, etc., Paid, Offered, or Agreed to be Paid: None

(vii) Sensitivity of Technology Contained in the Defense Article or Defense Services Proposed to be Sold: See Attached Annex

(viii) Date Report Delivered to Congress: November 3, 2020

*As defined in Section 47(6) of the Arms Export Control Act.

POLICY JUSTIFICATION

Romania—F-16 Modernization and Logistics Support

The Government of Romania has requested to buy upgrades to the avionics, software, communication equipment, navigational aids, and cockpit of its Mid-Life Update (MLU) Block 15 F-16 aircraft fleet along with additional logistics support. Included in the aircraft modernization are eight (8) LN-260 Global Positioning System (GPS) and nineteen (19) Multifunctional Information Distribution System Joint Tactical Radio Systems (MIDS JTRS). Also included is AN/APX-126 Advanced Identification Friend or Foe (IFF); ARC-210 Radios; KIV-78 Cryptographic Appliques; other secure communications, navigation, and encryption devices; Joint Mission Planning System (JMPS) software; aircraft minor modification, integration and test support, support equipment, software and software support; personnel training; spare and repair parts; publications and technical documentation; U.S. Government and contractor engineering, technical and logistical support services; and other related elements of logistical and program support. The estimated total cost is $175.4 million.

This proposed sale will support the foreign policy goals and national security of the United States by helping to improve the security of a NATO ally in developing and maintaining a strong and ready self-defense capability. This proposed sale will enhance U.S. national security objectives in the region.

The proposed sale will improve Romania's capability to meet current and future threats by upgrading its avionics to meet interoperability requirements for encrypted communications systems used by NATO forces. This increased secure communications capability will assist Romania in the defense of its homeland and U.S. personnel stationed there. Romania has demonstrated a significant financial commitment to modernizing its military, which will further enhance its interoperability with NATO. Romania will have no difficulty absorbing these capabilities into its armed forces.

The proposed sale of this equipment and support will not alter the basic military balance in the region.

The principal contractor will be Lockheed Martin Aeronautics Company of Fort Worth, TX. There are no known offset agreements proposed in connection with this potential sale.

Implementation of this proposed sale will not require the assignment of U.S. Government or contractor representatives in Romania.

There will be no adverse impact on U.S. defense readiness as a result of this proposed sale.

Transmittal No. 20-83

Notice of Proposed Issuance of Letter of Offer Pursuant to Section 36(b)(1) of the Arms Export Control Act

Annex

Item No. vii

(vii) Sensitivity of Technology:

1. The embedded GPS-INS (EGI) LN-260 is a sensor that combines GPS and inertial sensor inputs to provide accurate location information for navigating and targeting.

2. The Multifunctional Information Distribution System with Joint Tactical Radio System (MIDS JTRS) is an advanced Link-16 command, control, communications, and intelligence (C3I) system incorporating high-capacity, jam-resistant, digital communications links for exchange of near real-time tactical information, including both data and voice, among air, ground and sea elements.

3. The AN/APX-126 Advanced Identification Friend or Foe (IFF) Combined Interrogator Transponder (CIT) is a system capable of transmitting and interrogating Mode 5.

4. The ARC-210 UHF/VHF secure radio with HAVE QUICK II is a voice communications radio system that can operate in either normal, secure, and/or jam-resistant modes.

5. The KIV-78 is a crypto applique for IFF. It can be loaded with Mode 5 classified elements.

6. The Joint Mission Planning System (JMPS) is a multi-platform PC based mission planning system.

7. The highest level of classification of information included in this potential sale is SECRET.

8. If a technologically advanced adversary were to obtain knowledge of the specific hardware and software elements, the information could be used to develop countermeasures that might reduce weapon system effectiveness or be used in the development of a system with similar or advanced capabilities.

9. A determination has been made that Romania can provide substantially the same degree of protection for the sensitive technology being released as the U.S. Government. This sale is necessary in furtherance of the U.S. foreign policy and national security objectives outlined in the Policy Justification.

10. All defense articles and services listed in this transmittal have been authorized for release and export to the Government of Romania.

[FR Doc. 2020-28200 Filed 12-21-20; 8:45 am]

BILLING CODE 5001-06-P